DEPARTMENT OF ENERGY

Federal Energy Regulatory Commission

[Docket No. AD10-14-000]

Reliability Standards Development and NERC and Regional Entity Enforcement Supplemental Notice of Technical Conference

June 18, 2010.

On June 15, 2010, the Commission issued a Notice (June 15 Notice) announcing a Commissioner-led technical conference in the above-captioned proceeding. As stated in the June 15 Notice, the conference will provide a forum to consider industry perspectives on certain issues pertaining to the development and enforcement of mandatory Reliability Standards for the Bulk-Power System by the North American Electric Reliability Corporation and the Regional Entities. The conference will be held on Tuesday, July 6, 2010, in the Commission Meeting Room (2C) at the Commission's Washington, DC headquarters, 888 First Street, NE., Washington, DC, from approximately 10 a.m. until approximately 4 p.m. (EDT).

The agenda for the conference is attached. If any changes are made, the revised agenda will be posted prior to the event on the calendar page for this event on the Commission's Web site, http://www.ferc.gov.

Please note that on a future date the Commission intends to convene a second Commissioner-led technical conference to discuss reliability monitoring, enforcement, and compliance issues.

The July 6, 2010 conference will be open to the public. Registration is not required. To accommodate participants outside of Washington, DC a free webcast of the conference will be available on http://www.ferc.gov. Anyone who desires to view the webcast may do so by visiting http://www.ferc.gov by clicking on the Calendar of Events link, and finding the conference on the calendar. The Capitol Connection provides technical support for free webcasts and offers the option of listening via phone-bridge for a fee. If you have any questions, visit http://www.CapitolConnection.org or call 703-993-3100.

A transcript of the conferences will be immediately available from Ace Reporting Company (202-347-3700 or 1-800-336-6646) for a fee. The transcript will be available for the public on the Commission's eLibrary system seven calendar days after the Commission receives the transcript.

Any person interested in filing comments after the conference should do so in this docket by July 26, 2010. A person is not required to have attended the conference in order to file comments.

Commission conferences are accessible under section 508 of the Rehabilitation Act of 1973. For accessibility accommodations please send an e-mail to accessibility@ferc.gov or call toll free 1-866-208-3372 (voice) or 202-208-1659 (TTY), or send a FAX to 202-208-2106 with the required accommodations.

Questions about the conference may be directed to Karin Larson at 202-502-8236 or Karin.Larson@ferc.gov and Christopher Young at 202-502-6403 or Christopher.Young@ferc.gov.

Kimberly D. Bose,
Secretary.

Commissioner-Led Technical Conference on Reliability Standards Development and NERC and Regional Entity Enforcement July 6, 2010 10 a.m.-4 p.m.

Agenda

10 a.m. Commissioners' Opening Remarks.

10:20 a.m. Introductions, Joseph McClelland, Director, Office of Electric Reliability, FERC.

10:25 a.m. Panel 1: Presentations and Discussion on the Current State of Mandatory Reliability Standards Development.

Presentations: Panelists will be invited to express their general views on the progress of developing and implementing mandatory and enforceable Reliability Standards since the passage of EPAct 2005. What is working well? What needs improvement? Panelists should address the following broad questions in their presentations:

a. How can the Commission, NERC and the industry best identify priorities for ensuring reliability of the bulk power system?

b. What are the areas for improvement of communication and cooperation between the Commission, NERC and the industry?

c. What issues have arisen in the development of reliability standards, and what solutions should be explored going forward?

11:45 a.m. Lunch.

12:30 p.m. Continuation of Panel 1.

Discussion with Commissioners: Open dialogue and questions and answers between Panel 1 and Commissioners.

1:30 p.m. Panel 2: Reliability Standards Development Process.

Panelists will address more specifically their views regarding the reliability standards development process. Panelists will be asked to address some or all of the following (Commissioners and staff may ask questions during the presentations):

a. Are the current processes for timely development of new or revised standards working? If not, how can they be revised? Are additional resources needed?

b. How well are the current approaches for identifying and resolving ambiguities in reliability standards working (e.g., formal interpretations, NERC advisories, NERC “lessons learned” procedures)? Should streamlined procedures be developed for resolving ambiguities?

c. What is the best process for identifying the highest priority reliability standards?

d. How can the reliability standards development process better account for and timely respond to Commission directives?

e. The need to revise FERC processes to be more open and to fully accommodate industry participation, e.g., lengthening the comment period in NOPRs, and prioritizing standards development and NERC's compliance with directives.

f. How can the reliability standards development process better use individual events to produce reliability improvements nationwide?

g. How can a balance be achieved between documentation requirements needed to ensure compliance and a focus on improving reliability?

[FR Doc. 2010-15390 Filed 6-24-10; 8:45 am]

BILLING CODE 6717-01-P